DEPARTMENT OF AGRICULTURE

Forest Service

Intergovernmental Advisory Committee Meeting

AGENCY: Forest Service, USDA.

ACTION: Notice of meeting.

SUMMARY: The Intergovernmental Advisory Committee (IAC) will meet on May 3, 2001, at the World Trade Center, 121 S.W. Salmon, Portland, Oregon 97204. The purpose of the meeting is to continue discussions on the implementation of the Northwest Forest Plan (NFP). The meeting will begin at 9:30 a.m. and continue until 3:30 p.m. Agenda items to be discussed include, but are not limited to: Soliciting advice regarding the Future Direction of Adaptive Management Areas, sharing information about the Sierra Nevada Ecosystem Framework, and illustrating how IAC advice was used in the development of the draft Aquatic Riparian Effectiveness Monitoring Plan and the FERC/ACS Short- and Long-Term Questions. The IAC meeting will be open to the public and is fully accessible for people with disabilities. Interpreters are available upon request in advance. Written comments may be submitted for the record at the meeting. Time will also be scheduled for oral public comments. Interested persons are encouraged to attend.

FOR FURTHER INFORMATION CONTACT: Questions regarding this meeting may be directed to Steve Odell, Executive Director, Regional Ecosystem Office, 333 SW 1st Avenue, P.O. Box 3623, Portland, OR 97208 (Phone: 503-808-2166).

Dated: April 14, 2001.
Stephen J. Odell,
Designated Federal Official.

[FR Doc. 01-9809 Filed 4-19-01; 8:45 am]

BILLING CODE 3410-11-M